SMALL BUSINESS ADMINISTRATION

[Disaster Declaration #15151 and #15152; Missouri Disaster #MO-00081]

Presidential Declaration of a Major Disaster for the State of Missouri

AGENCY: U.S. Small Business Administration.

ACTION: Notice.

SUMMARY: This is a Notice of the Presidential declaration of a major disaster for the State of MISSOURI (FEMA-4317-DR), dated 06/02/2017.

Incident: Severe Storms, Tornadoes, Straight-line Winds, and Flooding.

Incident Period: 04/28/2017 through 05/11/2017.

DATES: Effective 06/02/2017.

Physical Loan Application Deadline Date: 08/01/2017.

Economic Injury (EIDL) Loan Application Deadline Date: 03/02/2018.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the President's major disaster declaration on 06/02/2017, applications for disaster loans may be filed at the address listed above or other locally announced locations.

The following areas have been determined to be adversely affected by the disaster:

Primary Counties (Physical Damage and Economic Injury Loans): Bollinger, Butler, Carter, Douglas, Dunklin, Franklin, Gasconade, Howell, Jasper, Jefferson, Madison, Maries, McDonald, Newton, Oregon, Osage, Ozark, Pemiscot, Phelps, Pulaski, Reynolds, Ripley, Saint Louis, Shannon, Stone, Taney, Texas.

Contiguous Counties (Economic Injury Loans Only):

Missouri: Barry, Barton, Callaway, Camden, Cape Girardeau, Christian, Cole, Crawford, Dade, Dent, Iron, Laclede, Lawrence, Miller, Montgomery, New Madrid, Perry, Saint Charles, Saint Francois, Saint Louis City, Sainte Genevieve, Stoddard, Warren, Washington, Wayne, Webster, Wright.

Arkansas: Baxter, Benton, Boone, Carroll, Clay, Craighead, Fulton, Greene, Marion, Mississippi, Randolph, Sharp.

Illinois: Madison, Monroe, Saint Clair.

Kansas: Cherokee, Crawford.

Oklahoma: Delaware, Ottawa.

Tennessee: Dyer, Lake.

The Interest Rates are:

| Percent
For Physical Damage:
Homeowners with Credit Available Elsewhere | 3.875
Homeowners without Credit Available Elsewhere | 1.938
Businesses with Credit Available Elsewhere | 6.430
Businesses without Credit Available Elsewhere | 3.215
Non-Profit Organizations with Credit Available Elsewhere | 2.500
Non-Profit Organizations without Credit Available Elsewhere | 2.500
For Economic Injury:
Businesses & Small Agricultural Cooperatives without Credit Available Elsewhere | 3.215
Non-Profit Organizations without Credit Available Elsewhere | 2.500

The number assigned to this disaster for physical damage is 151516 and for economic injury is 151520.

(Catalog of Federal Domestic Assistance Number 59008)

James E. Rivera,
Associate Administrator for Disaster Assistance.

[FR Doc. 2017-11973 Filed 6-8-17; 8:45 am]

BILLING CODE 8025-01-P